DEPARTMENT OF TRANSPORTATION

Surface Transportation Board

[STB Finance Docket No. 34874]

South Kansas & Oklahoma Railroad, Inc.—Trackage Rights Exemption—Wichita Union Terminal

Wichita Union Terminal (WUT) has agreed to grant restricted overhead trackage rights to South Kansas & Oklahoma Railroad, Inc. (SKO), over WUT's line of railroad between BNSF Railway Company (BNSF) milepost 213.2 and BNSF milepost 211.7, in Wichita, KS, a total distance of approximately 1.5 miles. WUT is jointly owned by BNSF and Union Pacific Railroad Company.

The transaction was scheduled to be consummated on the May 1, 2006 effective date of the exemption.

The purpose of the trackage rights agreement is to enable SKO to handle overhead traffic within Wichita, KS.

As a condition of this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34874, must be filed with the Surface Transportation Board, 1925 K Street, NW., Washington, DC 20423-0001. In addition, a copy of each pleading must be served on Karl Morell, Of Counsel, Ball Janik LLP, Suite 225, 1455 F Street, NW., Washington, DC 20005.

Board decisions and notices are available on our Web site at http://www.stb.dot.gov.

Decided: May 5, 2006.
By the Board, David M. Konschnik, Director, Office of Proceedings.
Vernon A. Williams,
Secretary.

[FR Doc. E6-7262 Filed 5-11-06; 8:45 am]

BILLING CODE 4915-01-P